COMMODITY FUTURES TRADING COMMISSION

Technology Advisory Committee

AGENCY: Commodity Futures Trading Commission (“CFTC”).

ACTION: Notice of Meeting of Technology Advisory Committee.

SUMMARY: The Technology Advisory Committee will hold a public meeting on December 13, 2011, from 10 a.m. to 5 p.m., at the CFTC's Washington, DC headquarters.

DATES: The meeting will be held on December 13, 2011 from 10 a.m. to 5 p.m. Members of the public who wish to submit written statements in connection with the meeting should submit them by December 12, 2011.

ADDRESSES: The meeting will take place in the Conference Center at the CFTC's headquarters, Three Lafayette Centre, 1155 21st Street NW., Washington, DC 20581. Written statements should be submitted to: Commodity Futures Trading Commission, Three Lafayette Centre, 1155 21st Street NW., Washington, DC 20581, attention: Office of the Secretary. Please use the title “Technology Advisory Committee” in any written statement you may submit. Any statements submitted in connection with the committee meeting will be made available to the public.

FOR FURTHER INFORMATION CONTACT: Laura Gardy, Commodity Futures Trading Commission, Three Lafayette Centre, 1155 21st Street NW., Washington, DC 20581, (202) 418-5354.

SUPPLEMENTARY INFORMATION: Matters to be addressed at the meeting are:

Emerging issues in the new trading environment of swap execution facilities (SEFs)

Defining, classifying, and observing high frequency traders (HFTs) and their impact on the markets

Interim recommendations from the Subcommittee on Data Standardization working groups on universal product and legal entity identifiers, standardization of machine-readable legal contracts, semantics, and data storage and retrieval.

The CFTC will make several options available to access the meeting. The meeting will be webcast on the CFTC's Web site, www.cftc.gov. Members of the public also can listen to the meeting by telephone by calling a toll-free telephone line to connect to a live audio feed. Call-in participants should be prepared to provide their first name, last name and affiliation.

Domestic Toll Free: 1-(866) 844-9416.

International Toll: Under Related Documents to be posted on http://www.cftc.gov.

Conference ID: 9848131.

Call Leader Name: Frank Rosen.

Pass Code/Pin Code: 2819384.

Authority: 5 U.S.C. app. 2 § 10(a)(2).

By the Commodity Futures Trading Commission.
Dated: November 30, 2011.
David A. Stawick,
Secretary of the Commission.

[FR Doc. 2011-31138 Filed 12-2-11; 8:45 am]

BILLING CODE P